DEPARTMENT OF HEALTH AND HUMAN SERVICES

Agency for Toxic Substances and Disease Registry

[ATSDR-167]

Public Health Assessments Completed

AGENCY: Agency for Toxic Substances and Disease Registry (ATSDR), Department of Health and Human Services (HHS).

ACTION: Notice.

SUMMARY: This notice announces those sites for which ATSDR has completed public health assessments during the period from October through December 2000. This list includes sites that are on or proposed for inclusion on the National Priorities List (NPL), and includes sites for which assessments were prepared in response to requests from the public.

FOR FURTHER INFORMATION CONTACT: Robert C. Williams, P.E., DEE, Assistant Surgeon General, Director, Division of Health Assessment and Consultation, Agency for Toxic Substances and Disease Registry, 1600 Clifton Road, NE., Mailstop E-32, Atlanta, Georgia 30333, telephone (404) 639-0610.

SUPPLEMENTARY INFORMATION: The most recent list of completed public health assessments was published in the Federal Register on December 21, 2000 [65 FR 80432]. This announcement is the responsibility of ATSDR under the regulation, Public Health Assessments and Health Effects Studies of Hazardous Substances Releases and Facilities [42 CFR part 90]. This rule sets forth ATSDR's procedures for the conduct of public health assessments under section 104(i) of the Comprehensive Environmental Response, Compensation, and Liability Act (CERCLA), as amended by the Superfund Amendments and Reauthorization Act (SARA) [42 U.S.C. 9604(i)].

Availability

The completed public health assessments and addenda are available for public inspection at the Division of Health Assessment and Consultation, Agency for Toxic Substances and Disease Registry, Building 33, Executive Park Drive, Atlanta, Georgia (not a mailing address), between 8 a.m. and 4:30 p.m., Monday through Friday except legal holidays. The completed public health assessments are also available by mail through the U.S. Department of Commerce, National Technical Information Service (NTIS), 5285 Port Royal Road, Springfield, Virginia 22161, or by telephone at (703) 605-6000. NTIS charges for copies of public health assessments and addenda. The NTIS order numbers are listed in parentheses following the site names.

Public Health Assesssments Completed or Issued

Between October 1 and December 31, 2000, public health assessments were issued for the sites listed below:

NPL Sites

Arizona

Franklin Elementary School—Phoenix—(PB21-102209)

Litchfield Airport Area—Goodyear—(PB21-102210)

Tucson International Airport Area—Tucson—(PB21-101599)

California

Pacific Gas and Electric (a/k/a Hinkley Site)—Hinkley —(PB21-101673)

Louisiana

Southern Shipbuilding (a/k/a Southern Shipbuilding Corporation) —(PB21-101946)

New Jersey

Brick Township Investigation (a/k/a Brick Township Autism Investigation)—Brick Township—(PB21-102170)

Cinnaminson Ground Water Contamination—Cinnaminson Township —(PB21-102407)

Martin Aaron, Incorporated—Camden—(PB21-101598)

New Mexico

Fruit Avenue Plume—Albuquerque—(PB21-101819)

New York

Hiteman Leather—West Winfield—(PB21-102406)

Little Valley—Little Valley—(PB21-102408)

Plattsburgh Air Force Base—Plattsburgh—(PB21-102613)

Tennessee

Memphis Defense Depot (Defense Logistics Agency) (a/k/a USA Defense Depot Memphis)—Memphis—(PB21-102388)

Texas

Hart Creosoting Company—Jasper—(PB21-101405)

Non NPL Petitioned Sites

Colorado

Cripple Creek and Victor Gold Mining—Cripple Creek (PB21-102213)

Missouri

Amoco Oil Company [a/k/a Amoco Oil Company—Sugar Creek (Finds) SS#0716]—Sugar Creek—(PB21-102171)

Dated: March 16, 2001.
Georgi Jones,
Director, Office of Policy and External Affairs, Agency for Toxic Substances and Disease Registry.

[FR Doc. 01-7237 Filed 3-22-01; 8:45 am]

BILLING CODE 4163-70-P